FEDERAL COMMUNICATIONS COMMISSION

47 CFR Part 73

[DA 00-1061; MM Docket No. 99-359; RM-9784]

Radio Broadcasting Services; Powers, MI

AGENCY: Federal Communications Commission.

ACTION: Final rule.

SUMMARY: This document allots Channel 297C3 to Powers, Michigan, in response to a petition filed by Lyle R. Evans. See 64 FR 73461, December 30, 1999. The coordinates for Channel 297C3 at Powers are 45-41-12 NL and 87-31-30 WL. Canadian concurrence has been received for the allotment of Channel 297C3 at Powers. With this action, this docketed proceeding is terminated. A filing window for Channel 297C3 at Powers will not be opened at this time. Instead, the issue of opening a filing window for this channel will be addressed by the Commission in a subsequent order.

DATES: Effective June 26, 2000.

FOR FURTHER INFORMATION CONTACT: Kathleen Scheuerle, Mass Media Bureau, (202) 418-2180.

SUPPLEMENTARY INFORMATION: This is a summary of the Commission's Report and Order, MM Docket No. 99-359, adopted May 3, 2000 and released May 12, 2000. The full text of this Commission decision is available for inspection and copying during normal business hours in the Commission's Reference Center, 445 12th Street SW, Washington, DC. The complete text of this decision may also be purchased from the Commission's copy contractors, International Transcription Services, Inc., 1231 20th Street NW, Washington, DC 20036; (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Michigan, is amended by adding Powers, Channel 297C3.

Federal Communications Commission.
John A. Karousos,
Chief, Allocations Branch, Policy and Rules Division, Mass Media Bureau.

[FR Doc. 00-13704 Filed 5-31-00; 8:45 am]

BILLING CODE 6712-01-U